DEPARTMENT OF TRANSPORTATION

Federal Aviation Administration

14 CFR Part 39

[Docket No. FAA-2006-24118; Directorate Identifier 2006-NM-034-AD]

RIN 2120-AA64

Airworthiness Directives; Bombardier Model BD-100-1A10 Airplanes

AGENCY: Federal Aviation Administration (FAA), Department of Transportation (DOT).

ACTION: Notice of proposed rulemaking (NPRM).

SUMMARY: The FAA proposes to adopt a new airworthiness directive (AD) for certain Bombardier Model BD-100-1A10 airplanes. This proposed AD would require an inspection for signs of arcing or heat damage of the electrical connections of the terminal blocks, ground studs, and the end of the wires and surrounding insulation for the windshield and side window anti-ice systems; and repairing any arced or damaged electrical connection. This proposed AD also would require re-torquing electrical connections of the terminal blocks and ground studs for the windshield and side window anti-ice systems. This proposed AD results from an in-service incident involving smoke and odor in the cockpit. We are proposing this AD to prevent loose electrical connections that could arc and overheat, and cause wiring damage of the windshield and side window anti-ice systems. Such wiring damage could result in smoke and/or fire in the flight compartment.

DATES: We must receive comments on this proposed AD by April 13, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Bombardier, Inc., Bombardier Regional Aircraft Division, 123 Garratt Boulevard, Downsview, Ontario M3K 1Y5, Canada, for service information identified in this proposed AD.

FOR FURTHER INFORMATION CONTACT: Wing Chan, Aerospace Engineer, Systems and Flight Test Branch, ANE-172, New York Aircraft Certification Office, FAA, 1600 Stewart Avenue, Suite 410, Westbury, New York 11590; telephone (516) 228-7311; fax (516) 794-5531.

SUPPLEMENTARY INFORMATION:

Comments Invited

We invite you to submit any relevant written data, views, or arguments regarding this proposed AD. Send your comments to an address listed in the ADDRESSES section. Include the docket number “FAA-2006-24118; Directorate Identifier 2006-NM-034-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

Transport Canada Civil Aviation (TCCA), which is the airworthiness authority for Canada, notified us that an unsafe condition may exist on certain Bombardier Model BD-100-1A10 airplanes. TCAA advises that an in-service incident occurred involving smoke and odor in the cockpit. Investigation revealed that the electrical connections for the terminal blocks and ground studs of the windshield and side window anti-ice systems may not have been torqued to the required value during production of certain airplanes. Loose electrical connections, if not corrected, could arc and overheat, which could result in wiring damage of the windshield and side window anti-ice systems and consequent smoke and/or fire in the flight compartment.

Relevant Service Information

Bombardier has issued Alert Service Bulletin A100-30-03, Revision 01, dated December 21, 2005. The service bulletin describes procedures for doing a special check for signs of arcing or heat damage of the electrical connections of the terminal blocks, ground studs, and the ends of the wires and surrounding insulation for the windshield and side window anti-ice systems; and repairing any arced or damaged electrical connection. The service bulletin also describes procedures for re-torquing electrical connections of the terminal blocks and ground studs for the windshield and side window anti-ice systems. Accomplishing the actions specified in the service information is intended to adequately address the unsafe condition. TCAA mandated the service information and issued Canadian airworthiness directive CF-2006-01, dated January 20, 2006, to ensure the continued airworthiness of these airplanes in Canada.

FAA's Determination and Requirements of the Proposed AD

This airplane model is manufactured in Canada and is type certificated for operation in the United States under the provisions of section 21.29 of the Federal Aviation Regulations (14 CFR 21.29) and the applicable bilateral airworthiness agreement. Pursuant to this bilateral airworthiness agreement, TCAA has kept the FAA informed of the situation described above. We have examined TCAA's findings, evaluated all pertinent information, and determined that we need to issue an AD for airplanes of this type design that are certificated for operation in the United States.

Therefore, we are proposing this AD, which would require accomplishing the actions specified in the service information described previously, except as discussed under “Clarification of the Proposed AD, Service Bulletin, and Canadian Airworthiness Directive.”

Clarification of the Proposed AD, Service Bulletin, and Canadian Airworthiness Directive

Although the service bulletin specifies a “special check” and the Canadian airworthiness directive specifies to “visually inspect,” this proposed AD would require a detailed inspection for signs of arcing or heat damage of the electrical connections of the terminal blocks, ground studs, and the ends of the wires and surrounding insulation for the windshield and side window anti-ice systems.

Costs of Compliance

This proposed AD would affect about 31 airplanes of U.S. registry. The proposed actions would take about 4 work hours per airplane, at an average labor rate of $80 per work hour. Based on these figures, the estimated cost of the proposed AD for U.S. operators is $9,920, or $320 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Bombardier, Inc.: Docket No. FAA-2006-24118; Directorate Identifier 2006-NM-034-AD.

Comments Due Date

(a) The FAA must receive comments on this AD action by April 13, 2006.

Affected ADs

(b) None.

Applicability

(c) This AD applies to Bombardier Model BD-100-1A10 airplanes, serial numbers 20006 through 20046 inclusive, 20048, 20051, and 20052; certificated in any category.

Unsafe Condition

(d) This AD results from an in-service incident involving smoke and odor in the cockpit. We are issuing this AD to prevent loose electrical connections that could arc and overheat, and cause wiring damage of the windshield and side window anti-ice systems. Such wiring damage could result in smoke and/or fire in the flight compartment.

Compliance

(e) You are responsible for having the actions required by this AD performed within the compliance times specified, unless the actions have already been done.

Inspection, Repair, and Re-Torque

(f) Within 90 days after the effective date of this AD, do the actions specified in paragraphs (f)(1) and (f)(2) of this AD in accordance with the Accomplishment Instructions of Bombardier Alert Service Bulletin A100-30-03, Revision 01, dated December 21, 2005.

(1) Do a detailed inspection for signs of arcing or heat damage of the electrical connections of the terminal blocks, ground studs, and the end of the wires and surrounding insulation for the windshield and side window anti-ice systems. If any sign of arcing or heat damage is detected, before further flight, repair the arced or damaged electrical connection.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(2) Re-torque the electrical connections of the terminal blocks and ground studs for the windshield and side window anti-ice systems.

Alternative Methods of Compliance (AMOCs)

(g)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Canadian airworthiness directive CF-2006-01, issue date January 20, 2006, also addresses the subject of this AD.

Issued in Renton, Washington, on March 3, 2006.
Kalene C. Yanamura,
Acting Manager, Transport Airplane Directorate, Aircraft Certification Service.

[FR Doc. E6-3567 Filed 3-13-06; 8:45 am]

BILLING CODE 4910-13-P